DEPARTMENT OF COMMERCE

National Oceanic and Atmospheric Administration

[I.D. 052003B]

Marine Mammals; File No. 1003-1665

AGENCY: National Marine Fisheries Service (NMFS), National Oceanic and Atmospheric Administration (NOAA), Commerce.

ACTION: Issuance of permit amendment.

SUMMARY: Notice is hereby given that Dr. Jennifer Moss Burns, University of Alaska Anchorage, Department of Biological Sciences, College of Arts and Sciences, 3211 Providence Drive, Anchorage, AK 99508, has been issued an amendment to scientific research Permit No. 1003-1665-00.

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Alaska Region, NMFS, PO Box 21668, Juneau, AK 99802-1668; phone (907)586-7221; fax (907)586-7249.

FOR FURTHER INFORMATION CONTACT: Tammy Adams or Amy Sloan, (301)713-2289.

SUPPLEMENTARY INFORMATION: On April 7, 2003, notice was published in the Federal Register (69 FR 16786) that an amendment of Permit No. 1003-1665-00, issued April 12, 2002 (67 FR 19167), had been requested by the above-named individual. The requested amendment has been granted under the authority of the Marine Mammal Protection Act of 1972, as amended (16 U.S.C. 1361 et seq.), and the Regulations Governing the Taking and Importing of Marine Mammals (50 CFR part 216).

The permit was amended to increase the number of takes of harbor seals (Phoca vitulina richardsi) in Southeast Alaska by disturbance incidental to capture and surveys from 500 to 2,000 per year.

Dated: May 30, 2003.
Stephen L. Leathery,
Chief, Permits, Conservation and Education Division, Office of Protected Resources, National Marine Fisheries Service.

[FR Doc. 03-14175 Filed 6-4-03; 8:45am]

BILLING CODE 3510-22-S